DEPARTMENT OF TRANSPORTATION

Federal Transit Administration

Preparation of an Environmental Impact Statement for the Capital Metro Blue Line Project in Austin, Texas

AGENCY: Federal Transit Administration (FTA), DOT.

ACTION: Notice of intent to prepare an environmental impact statement.

SUMMARY: The Federal Transit Administration (FTA), as lead Federal agency, and the Capital Metropolitan Transportation Authority (Capital Metro), as local project sponsor and joint lead agency, issue this notice to advise the public that they intend to prepare an Environmental Impact Statement (EIS) pursuant to the National Environmental Policy Act (NEPA) for the Blue Line Project (the Project) in Austin, Texas. The Project is a proposed light rail transit (LRT) line that would extend approximately 8.2 miles from Republic Square in downtown Austin to Austin-Bergstrom International Airport (AUS). FTA has determined that the Project is sufficiently developed to allow for meaningful public comment and requires an EIS.

DATES: Comments must be received on or before June 23, 2021.

ADDRESSES: Comments on the scope of the EIS should be sent to: Capital Metro, Blue Line LRT Project, 2910 E Fifth Street, Austin, TX 78702; or via email at BlueLine@capmetro.org.

FOR FURTHER INFORMATION CONTACT: For FTA: Mr. Terence Plaskon, Federal Transit Administration, Region VI, 819 Taylor Street, Fort Worth, TX 76102, at (817) 978-0573 or terence.plaskon@dot.gov. For Capital Metro: Mr. Jacob Calhoun, Capital Metro, 2910 E Fifth Street, Austin, TX 78702, at (512) 369-6501 or jacob.calhoun@capmetro.org.

SUPPLEMENTARY INFORMATION: FTA and Capital Metro (the Agencies) will prepare the EIS in accordance with NEPA and its implementing regulations. The EIS will evaluate two alternatives, a Build Alternative and a No Build Alternative. After circulation of the draft EIS and consideration of comments received, FTA intends to issue a combined final EIS/Record of Decision (ROD) document pursuant to 23 U.S.C. 139(n)(2), unless statutory criteria (i.e., the final EIS makes substantial changes to the proposed action that are relevant to environmental or safety concerns or there is a significant new circumstance or information relevant to environmental concerns that affect the proposed action or its impacts) preclude issuance of a combined document.

I. Purpose and Need for the Proposed Action

The Project is part of Capital Metro's 2018 Project Connect Long-Term Vision Plan (Project Connect), amended in 2020. Project Connect presents a regional vision for high-capacity transit (HCT) investments that would add mobility options for the Central Texas region. Capital Metro began developing Project Connect in 2016 to create a system of HCT options along with enhancing and expanding existing services. Capital Metro conducted extensive outreach to the public, stakeholders, and government agencies to gain their input. The Project Connect area includes the five-county metropolitan statistical area of Bastrop, Caldwell, Hays, Travis, and Williamson counties.

Capital Metro began preparing the Project Connect Program in 2016, following Federal guidance on the Planning and Environmental Linkages (PEL) process. In 2019 and 2020, Capital Metro completed a PEL study for the Project. The PEL study documented Capital Metro's alternatives analysis, the Project's purpose and need, public and stakeholder outreach, and informed selection of the Locally Preferred Alternative (LPA). Capital Metro and the Austin City Council approved the LPA in June 2020. For reference purposes, Capital Metro continues to make the PEL study available at http://projectconnect.com/blue-environment.

As documented in the PEL study, the purpose of the Project is to provide improved HCT that operates faster; has better reliability; provides improved connectivity to affordable housing, employment, activity centers, and the AUS; and links other future transit corridors.

The lack of transportation options and limited roadway capacity to accommodate growth in Central Texas may hinder the continued vitality and economic health of the City of Austin and surrounding areas in the future. Inadequate transit access for many city residents coupled with rising travel demand have resulted in longer travel times, decreased mobility, and additional travel costs for residents and businesses. As documented in the PEL study, Capital Metro identified several needs within the Project study area:

• Sustainably support Austin's population and economic growth;

• Increase transportation network capacity to meet increasing travel demand;

• Provide better transit options linking affordable housing and jobs;

• Support growth of and connectivity to activity centers; and

• Support Austin-Bergstrom International Airport growth in air travel.

II. Description of Proposed Action and Alternatives

Capital Metro applied a phased screening process to select the proposed action. As documented in the PEL study and alternatives analysis report, the process was structured as a tiered screening, where alternatives were defined, evaluated, and refined or eliminated in each step of the process. The result is that the EIS will evaluate two alternatives, a Build Alternative and a No Build Alternative. The Build Alternative is an 8.2-mile proposed LRT line from Republic Square in Downtown Austin to AUS. The Project would involve new track mostly within existing publicly owned right-of-way, running at street level (primarily center running) and elevated in two sections—across Lady Bird Lake (Colorado River) and at AUS. The proposed transitway would include an approximate 0.8-mile tunnel between the Downtown and Republic Square stations. Additional potential stations include: Emma S. Barrientos Mexican American Cultural Center/Rainey, Waterfront, Travis Heights, Lakeshore, Riverside, Faro, Montopolis, Metro Center, and AUS. Blue Line trains would ultimately connect with the proposed Orange Line Project. Possible station locations in Downtown Austin could ultimately serve both the proposed Blue Line and Orange Line projects. The Project's transitway and station locations will be further refined during the environmental review process, working in close coordination with the public, agencies, and key stakeholders. The No Build Alternative is defined as the existing transportation system and includes other planned transit investments included in the Capital Area Metropolitan Planning Organization's 2045 Regional Transportation Plan (e.g., the Orange Line Project and bus rapid transit projects, as part of Project Connect), except the Blue Line Project. The No Build Alternative serves as a benchmark from which to compare the effects of the Project.

III. Summary of Expected Impacts

The Agencies will evaluate potential direct, indirect, and cumulative impacts of the Build and No Build Alternatives to the natural, built, and social environments. Impacts evaluated will include those that are reasonably foreseeable. As a tunnel is proposed for the Project, potential above- and below-ground impacts will be considered. Potential impacts include transportation, land use, socioeconomics and economic development, parklands and recreational facilities, neighborhoods and community facilities, environmental justice, noise and vibration, hazardous materials, ecosystems, water resources, and short-term construction impacts. The EIS will also address displacements and relocations, historic and archaeological resources, visual quality, vegetation, geotechnical conditions, air quality (including greenhouse gas emissions), and energy. The potential impact to these resources will be evaluated for the short-term construction period and long-term operation of each alternative. Measures to avoid, minimize, or mitigate impacts will be evaluated and proposed, as necessary.

The Agencies have identified several potential impact areas and project considerations, including: The crossing of waterways; adjacent wetlands and watersheds; mitigating conflict with adjacent roadways; preserving the ability to develop AUS property for aviation operations while providing a high-quality station area; minimizing impacts to downtown roadways; property acquisitions; and preserving the ability to develop station areas for transit-oriented development and affordable housing.

IV. Anticipated Permits and Other Authorizations

The EIS will list Federal permits, licenses, and other authorizations that must be obtained in implementing the Project. The Agencies anticipate that required permits and other authorizations may include:

• U.S. Department of Interior approval under Section 6(f) of the Land and Water Conservation Act;

• Memorandum of Agreement with the State Historic Preservation Officer under Section 106 of the National Historic Preservation Act; and

• U.S. Army Corps of Engineers approval under Section 404 of the Clean Water Act and/or Section 10 of the River and Harbors Act.

V. Schedule for the Decision-Making Process

The Agencies intend to complete the EIS for the Project within two years, measured from the date of the issuance of this notice to the date a ROD is signed. Capital Metro will accept public comments on the scope of the EIS (i.e., the information presented in this notice and at http://projectconnect.com/blue-environment) through June 23, 2021. The Agencies will then consider those comments as they prepare the draft EIS. The Agencies will announce the availability of the draft EIS in the Federal Register and via local media outlets. Capital Metro expects the draft EIS will be available for a minimum 45-day public comment period by Spring 2022. The Agencies will consider substantive comments timely submitted during the public comment period and then prepare a combined final EIS/ROD by Winter 2022/2023. The Agencies expect that all Federal environmental authorization decisions for the construction of the Project will be completed within a reasonable period following issuance of the ROD.

VI. Description of Scoping Process

In accordance with NEPA and its implementing regulations, and after FTA determined that the Project was sufficiently developed for agency and public consideration, the Agencies used an early and open process to determine the scope of issues for analysis in the EIS. On April 19, 2019, FTA published in the Federal Register a Notice of Early Scoping for the Project. Since that time, Capital Metro has extensively engaged the public and stakeholder agencies to identify significant environmental issues deserving of study, thereby narrowing the scope of the EIS to the relevant impacts. As part of the scoping process, FTA invited the participation of likely affected Federal, State, Tribal, and local agencies and governments, and other likely affected or interested persons. From January 2021 to March 2021, Capital Metro held public and agency virtual scoping meetings, published scoping information (e.g., alternatives analysis), and used other means to communicate with persons or agencies who may be interested or affected by the Project. Capital Metro has posted a self-guided scoping presentation online at http://projectconnect.com/blue-environment.

The Agencies identified partner agencies that potentially have an interest in the Project, including those agencies with authorization decisions, and invited them to serve as a participating or cooperating agency to the EIS.

VII. Request for Identification of Potential Alternatives, Information, and Analyses

The Agencies invite all State, Tribal, local governments, and the public to comment on potential alternatives, information, and analyses to be considered in the EIS.

Gail Lyssy,
Regional Administrator, FTA Region VI.

[FR Doc. 2021-10866 Filed 5-21-21; 8:45 am]

BILLING CODE 4910-57-P